DEPARTMENT OF ENERGY

Notice of Request for Information (RFI) on Battery Critical Materials Supply Chain R&D

AGENCY: Advanced Manufacturing Office (AMO), Office of Energy Efficiency and Renewable Energy, Department of Energy (DOE).

ACTION: Request for information (RFI).

SUMMARY: The U.S. Department of Energy (DOE) invites public comment on its Request for Information (RFI) number DE-FOA-0002358 regarding the BATTERY CRITICAL MATERIALS SUPPLY CHAIN R&D. This RFI pertains to a Research & Development (R&D) Battery Critical Materials Supply Chain Workshop planned to be hosted by the Office of Energy Efficiency & Renewable Energy (EERE), Advanced Manufacturing Office (AMO), Geothermal Technologies Office (GTO) and Vehicle Technologies Office (VTO). The purpose of this RFI is to solicit feedback from industry, academia, research laboratories, government agencies, and other stakeholders on issues related to challenges and opportunities in the upstream and midstream critical materials battery supply chains. Such input will inform the agenda of the R&D Battery Critical Materials Supply Chain Workshop planned for the fall of 2020 to determine opportunities, gaps, and bottlenecks in the battery cathode materials supply and the value chain.

DATES: Responses to the RFI must be received by July 16, 2020.

ADDRESSES: Interested parties are to submit comments electronically to BatteryCriticalMaterialsRFI@ee.doe.gov. Include Battery Critical Materials Supply Chain R&D in the subject of the title. Only electronic responses will be accepted. The complete RFI document is located at https://eere-exchange.energy.gov/.

FOR FURTHER INFORMATION CONTACT: Question may be addressed to Helena Khazdozian at 202-586-9236 or BatteryCriticalMaterialsRFI@ee.doe.gov. Further instruction can be found in the RFI document posted on EERE Exchange.

SUPPLEMENTARY INFORMATION: The purpose of this RFI is to solicit feedback from industry, academia, research laboratories, government agencies, and other stakeholders on issues related to challenges and opportunities in the upstream and midstream critical materials battery supply chains. EERE is specifically interested in information on raw minerals production and refining and processing of cathode materials including cobalt, lithium, and battery grade (Class I) nickel.¹ Informed by previous roundtable discussions, EERE plans to organize an R&D Battery Critical Materials Supply Chain Workshop in the fall of 2020 to determine opportunities, gaps, and bottlenecks in the battery cathode materials supply and the value chain. This workshop will be guided by the goal to create a diverse, domestic battery supply chain in the next 5 years. EERE is specifically seeking input on the current state of the battery cathode materials supply chains and gaps and opportunities for near-term and long-term R&D. Such input will inform the agenda of the workshop planned for next fall as well as to inform the development of the R&D roadmap as part of implementation of the Federal Strategy. Specific questions can be found in the RFI. The RFI is available at: https://eere-exchange.energy.gov/.

¹ Nickel is not a critical mineral commodity on the list published by the Secretary of Interior. https://www.federalregister.gov/documents/2018/05/18/2018-10667/final-list-of-critical-minerals-2018.

Confidential Business Information

Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority

This document of the Department of Energy was signed on June 1, 2020, by Valri Lightner, Acting Director, Advanced Manufacturing Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 11, 2020.
Treena V. Garrett,
Federal Register Liaison Officer, U.S. Department of Energy.

[FR Doc. 2020-12918 Filed 6-15-20; 8:45 am]

BILLING CODE 6450-01-P